Proclamation 10719 of March 29, 2024

National Donate Life Month, 2024

By the President of the United States of America

A Proclamation

I often say that we are a good Nation because we are a good people, and during National Donate Life Month, we are reminded of why that is true as we celebrate all the selfless organ donors across our country, who have saved countless lives. We honor the families and friends of donors who have supported their loved ones, and we recognize the professionals devoted to the transplant community. We call upon more Americans to register as organ, eye, tissue, or bone marrow donors and share the gift of life with those in need.

Across the country, organ transplants are being performed at a record pace because of the incredible generosity and courage of organ donors. America's doctors have performed over one million organ transplants to date. Each year, thousands of profoundly compassionate Americans choose to donate their organs, saving the lives of loved ones and people they have never even met.

Despite this progress, there is still so much more to do until every person who needs an organ receives one. More than 100,000 people, including nearly 2,000 children, are currently on the waiting list for an organ transplant—the majority of whom are people of color. With a shortage of organ donors and a high demand for them, 17 Americans die each day while waiting for a transplant.

We can each change that. After someone passes away, their organ donation can save up to 8 people and can improve 75 more lives through eye and tissue donation. What an extraordinary legacy to leave: giving people in need a second chance at life and giving families futures with their loved ones.

My Administration is working to improve the organ donation process and ensure living donors and recipients have access to quality, affordable health care. For the first time in nearly 40 years, we are breaking up the monopoly that has controlled the organ transplant system. A bipartisan law I signed, the Securing the U.S. Organ Procurement and Transplantation Network Act, will transform the organ transplant network by increasing competition in the contracts process. This law allows us to implement an independent board of directors that can strengthen accountability and oversight. In addition, we established the Organ Procurement and Transplantation Network Modernization Initiative, which will bring more transparency to the system and spearhead needed reforms. These actions are critical first steps toward cutting down the wait list for organs.

We have also taken action to extend Medicare coverage of vital drugs for kidney transplant patients and are working to ensure high-quality care for transplants. This year, through my Inflation Reduction Act, out-of-pocket drug costs for seniors on Medicare will be capped at $3,500 a year—even for medications that cost some organ recipients many times that.

In addition, I worked with the Congress to secure $2.5 billion in bipartisan funding for the Advanced Research Projects Agency for Health (ARPA-H). The scientists, innovators, and public health professionals receiving ARPA-H funding are working day and night to revolutionize the prevention, detection, and treatment of cancer and other deadly diseases. In time, these breakthroughs could one day reduce the need for organ transplants or eliminate the need for anti-rejection medication. For example, to make it easier and faster for patients to get a transplant, ARPA-H has already invested $26 million into addressing organ transplant shortages through on-demand 3D tissue printing, beginning with a human heart.

Millions of Americans have embraced the American spirit of helping those in need by signing up to be organ donors. Any adult can register, regardless of age or medical history. In many States you can sign up by simply checking a box when you renew your driver's license. I encourage all Americans to learn more about organ, eye, and tissue donation by visiting organdonor.gov or bloodstemcell.hrsa.gov for more information on donating bone marrow. This National Donate Life Month, let us redouble our efforts to save and improve more lives by lending a hand to our fellow Americans in need of life-saving organ transplants.

NOW, THEREFORE, I, JOSEPH R. BIDEN JR., President of the United States of America, by the authority vested in me by the Constitution and the laws of the United States, do hereby proclaim April 2024 as National Donate Life Month. I call on every person who can to share the gift of life and hope by becoming an organ, eye, tissue, or bone marrow donor. I also call on this Nation to observe National Pediatric Transplant Week from April 21 through April 27, a week dedicated to ending the pediatric transplant waiting list.

IN WITNESS WHEREOF, I have hereunto set my hand this twenty-ninth day of March, in the year of our Lord two thousand twenty-four, and of the Independence of the United States of America the two hundred and forty-eighth.

[FR Doc. 2024-07190

Filed 4-2-24; 8:45 am]

Billing code 3395-F4-P